DEPARTMENT OF HEALTH AND HUMAN SERVICES

Indian Health Service

Division of Behavioral Health, Office of Clinical and Preventive Services; Methamphetamine and Suicide Prevention Initiative; Correction

AGENCY: Indian Health Service, HHS.

ACTION: Notice; correction.

SUMMARY: The Indian Health Service published a document in the Federal Register on July 8, 2015, for the FY 2015 Methamphetamine and Suicide Prevention Initiative. The notice contained four incorrect broad objectives for Purpose Area #2.

FOR FURTHER INFORMATION CONTACT: Mr. Paul Gettys, Grant Systems Coordinator, Division of Grants Management (DGM), Indian Health Service, 801 Thompson Avenue, Suite TMP 360, Rockville, MD 20852, Telephone direct (301) 443-2114, or the DGM main number (301) 443-5204. (This is not a toll-free number.)

Corrections

In the Federal Register of July 8, 2015, in FR Doc. 2015-16744, on page 39132, in the second column, under the heading Purpose Area 2: Suicide Prevention, Intervention, and Postvention, all the bullet points with corrections should read as follows:

• Expand available behavioral health care treatment services;

• Foster coalitions and networks to improve care coordination;

• Educate and train providers in the care of suicide screening and evidence-based suicide care;

• Promote community education to recognize the signs of suicide, and prevent and intervene in suicides and suicide ideations;

• Improve health system organizational practices to provide evidence-based suicide care;

• Establish local health system policies for suicide prevention, intervention, and postvention;

• Integrate culturally appropriate treatment services; and

• Implement trauma informed care services and programs.

Dated: July 15, 2015.
Elizabeth A. Fowler,
Deputy Director for Management Operations, Indian Health Service.

[FR Doc. 2015-17960 Filed 7-21-15; 8:45 am]

BILLING CODE 4160-16-P